DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology (IT).

Proposed Project: Youth Programs Evaluation—NEW

The Substance Abuse and Mental Health Services Administration's (SAMHSA), Center for Substance Abuse Treatment (CSAT) is conducting a cross-site external evaluation of three grantee programs that are critical to its youth treatment grants portfolio. The three programs include the 2013 Cooperative Agreements for State Adolescent and Transitional Aged Youth Treatment Enhancement and Dissemination (SYT-ED), the 2015 and 2016 Cooperative Agreements for State Adolescent and Transitional Aged Youth Treatment Enhancement and Dissemination Implementation (SYT-I), and the 2015 Cooperative Agreements for State Adolescent and Transitional Aged Youth Treatment Enhancement and Dissemination Planning (SYT-P).

Preventing and treating substance use and/or mental health disorders are essential to SAMHSA's mission to reduce the impact of behavioral health conditions in America's communities. The specific populations (i.e., adolescents, youth) targeted by the youth programs face a particular set of behavioral health risks and each of the grant programs helps provide targeted services and evidence-based practices. To evaluate the impact and success of SYT program implementation the evaluation includes the following data collection tools:

• Implementation Interview Guide

• Sustainability Interview Guide

• Stakeholder Interview Guide

• Provider Survey

• Focus Group guides

These data collection tools will provide essential information on each grantee program beyond the performance monitoring data already collected by SAMHSA.

The Implementation, Sustainability, and Stakeholder Interview Guides are semi-structured interviews. They are designed to collect data on information related to program implementation facilitators and barriers, infrastructure development, factors related to sustainability, and performance that will inform ongoing recommendations to improve program performance and administration. These interview guides were informed by interview guides used successfully in other evaluations including the SAMHSA Access to Recovery Evaluation, ASPE Medicaid Expansion Evaluation, and the SAMHSA Homeless Programs Evaluations. Each interview is estimated to take approximately one hour. SYT grantees and providers will participate in an interview annually while their program is active. SYT program stakeholders will participate once during the course of their respective grant program. Stakeholders include other organizations or agencies that serve or have a stake hold in helping this population, such as other state/territory/tribe organizations (e.g., child welfare organizations, justice agencies), other community-based providers, or community advocacy groups. Grantee programs will be asked to complete the implementation interview annually until the last year of the grant program when they will be asked to complete the sustainability interview. Respondents will include representatives from grantee, provider and stakeholder organizations involved in the SYT programs.

The Provider Survey aims to collect data to help identify program activities and services that are being implemented as part of the SYT grant programs and the impact these activities/services may have on client outcomes and treatment systems. Substance abuse service provider organizations (e.g., treatment facilities implementing evidence-based treatment practices) participating in SYT-ED or SYT-I grants will be asked to participate in the survey. The provider survey will collect data on linkages with the grantee and within the youth substance use treatment system for providing services and a safety net to adolescents, transition age youth, and their families. Topics around grantee dissemination and outreach efforts as well as evidence-based practices, program costs and other training activities will also be explored. The Provider survey is estimated to take approximately 1 hour and SYT-ED provider respondents will complete the survey 2 times, once per year, during the cross-site evaluation while SYT-I provider respondents will complete the survey 3 times, once per year.

The Focus Group guides aim to collect the clinicians' and other direct care staff members' perspectives in implementing SYT services and the facilitators, barriers and challenges providers encountered. These data will provide valuable contextual data through which to better understand the Provider Survey data. Clinicians/staff members are uniquely qualified to answer implementation questions on a client, staff and community level. The Focus Groups will allow clinicians/staff members to provide important information around the impact of evidence-based practices in the provider organization and within the community they serve. Clinicians/staff members also will be asked about expectations around evidence-based practices, the effectiveness of implementing evidence-based practices, and the level of engagement from their organization's leadership and the provider community as a whole.

Each provider in the SYT-ED and SYT-I grantee programs will complete the Focus Group once and the estimated time per group is 1.5 hours. For each provider, an average of 6 respondents are expected to join the Focus Group.

Estimated Annualized Total Cross-Program Data Collection Burden
Grantee cohort | Number of respondents | Responses per respondent | Total number of responses | Hours per response a | Total burden hours
SYT-ED grantees | 286 | 1 | 286 | 1 | 286
SYT-I grantees | 377 | 1 | 377 | 1 | 377
SYT-P grantees | 104 | 1 | 104 | 1 | 104
Total | 767 |  | 767 |  | 767
ᵃ Hours per response is an average annualized estimate.

Estimated Annualized Total Burden by Data Collection Instrument/Activity
Instrument/activity | Number of respondents | Responses per respondent | Total number of responses | Hours per response a | Total burden hours
Sustainability Interviews | 98 | 1 | 98 | 1 | 98
Implementation Interviews | 124 | 1 | 124 | 1 | 124
Stakeholder Interviews | 183 | 1 | 183 | 1 | 183
Provider Survey | 74 | 1 | 74 | 1 | 74
Focus groups | 288 | 1 | 288 | 1 | 288
Total | 767 |  | 767 |  | 767
ᵃ Hours per response is an average annualized estimate.

Send comments to Summer King, SAMHSA Reports Clearance Officer, 5600 Fishers Lane, Room 15E57-B, Rockville, Maryland 20857, OR email a copy to summer.king@samhsa.hhs.gov. Written comments should be received by June 20, 2016.

Summer King,
Statistician.

[FR Doc. 2016-09209 Filed 4-19-16; 8:45 am]

BILLING CODE 4162-20-P